FEDERAL COMMUNICATIONS COMMISSION

Public Information Collections Approved By Office of Management and Budget

November 17, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0511.

Expiration Date: 11/30/2003.

Title: ARMIS Access Report.

Form No.: FCC Report 43-04.

Respondents: Business or other for-profit.

Estimated Annual Burden: 150 respondents; 621 hours per response (avg.).; 93,150 total annual burden hours.

Estimated Annual Reporting and Recordkeeping Cost Burden: $0.

Frequency of Response: Annually.

Description: Section 220 of the Communications Act of 1934, as amended, 47 U.S.C. 220, allows the Commission, at its discretion, to prescribe the forms of any and all accounts, records, and memoranda to be kept by carriers subject to this Act, including the accounts, records, and memoranda of the movement of traffic, as well as the receipts and expenditures of moneys. Section 219(b) of the Communications Act of 1934, as amended, 47 U.S.C. 219(b), authorizes the Commission by a general or special orders to require any carrier subject to this Act to file monthly reports concerning any matters with respect to which the Commission is authorized or required by law to act. ARMIS was implemented to facilitate the timely and efficient analysis of revenue requirements, rates of return and price caps; to provide an improved basis for audits and other oversight functions; and to enhance the Commission's ability to quantify the effects of alternative policy. The ARMIS 43-04 Report provides jurisdictional separations and access charge data by Part 36 category of the Commission's Rules and Regulations. The ARMIS 43-04 Report monitors revenue requirements, joint cost allocations, jurisdictional separations and access charges. The information contained in the ARMIS 43-04 Report provides the necessary detail to enable the Commission to fulfill its regulatory responsibilities. Obligation to respond: Mandatory.

OMB Control No.: 3060-0512.

Expiration Date: 11/30/2003.

Title: ARMIS Annual Summary Report.

Form No.: FCC Report 43-01.

Respondents: Business or other for-profit.

Estimated Annual Burden: 150 respondents; 135 hours per response (avg.).; 20,250 total annual burden hours.

Estimated Annual Reporting and Recordkeeping Cost Burden: $0.

Frequency of Response: Annually.

Description: Section 220 of the Communications Act of 1934, as amended, 47 U.S.C. 220, allows the Commission, at its discretion, to prescribe the forms of any and all accounts, records, and memoranda to be kept by carriers subject to this Act, including the accounts, records, and memoranda of the movement of traffic, as well as of the receipts and expenditures of moneys. Section 219(b) of the Communications Act of 1934, as amended, 47 U.S.C. 219(b), authorizes the Commission by a general or special orders to require any carriers subject to this Act to file annual reports concerning any matters with respect to which the Commission is authorized or required by law to act. ARMIS was implemented to facilitate the timely and efficient analysis of revenue requirements, rates of return and price caps; to provide an improved basis for audits and other oversight functions; and to enhance the Commission's ability to quantify the effects of alternative policy. The ARMIS 43-01 Report contains financial and operating data and is used to monitor the incumbent local exchange carriers (ILECs) and to perform routine analyses of costs and revenues. ARMIS 43-01 Report facilitates the annual collection of the results of accounting, rate base, and cost allocation requirements prescribed in Parts 32, 36, 64, 65, and 69 of the Commission's Rules and Regulations. The information contained in the ARMIS 43-01 Report provides the necessary detail to enable the Commission to fulfill its regulatory responsibilities. Obligation to respond: Mandatory.

OMB Control No.: 3060-0513.

Expiration Date: ARMIS Joint Cost Report.

Title: ARMIS Joint Cost Report.

Form No.: FCC Report 43-03.

Respondents: Business or other for-profit.

Estimated Annual Burden: 150 respondents; 83 hours per response (avg.).; 12,450 total annual burden hours.

Estimated Annual Reporting and Recordkeeping Cost Burden: $0.

Frequency of Response: Annually.

Description: Section 220 of the Communications Act of 1934, as amended, 47 U.S.C. 220, allows the Commission, at its discretion, to prescribe the forms of any and all accounts, records, and memoranda to be kept by carriers subject to this Act, including the accounts, records, and memoranda of the movement of traffic, as well as the receipts and expenditures of moneys. Section 219(b) of the Communications Act of 1934, as amended, 47 U.S.C. 219(b), authorizes the Commission by a general or special orders to require any carrier subject to this Act to file monthly reports concerning any matters for which the Commission is authorized, or required by law, to act. ARMIS was implemented to facilitate the timely and efficient analysis of revenue requirements, rates of return and price caps; to provide an improved basis for audits and other oversight functions; and to enhance the Commission's ability to quantify the effects of alternative policy. The ARMIS Joint Cost Report, FCC Report 43-03, contains financial and operating data. The ARMIS 43-03 Report details the incumbent local exchange carriers (ILECs) regulated and nonregulated cost and revenue allocations by study area pursuant to Part 64 of the Commission's Rules. The information contained in the ARMIS 43-03 Report provides the necessary detail to enable the Commission to fulfill its regulatory responsibilities. Obligation to respond: Mandatory.

OMB Control No.: 3060-0804.

Expiration Date: 10/31/2003.

Title: Universal Service—Health Care Providers Universal Service Program.

Form No.: FCC Forms 465, 466, 466-A, 467, and 468.

Respondents: Not for profit institutions; Business or other for-profit.

Estimated Annual Burden: 5255 respondents; 1.85 hours per response (avg.).; 9755 total annual burden hours.

Estimated Annual Reporting and Recordkeeping Cost Burden: $0.

Frequency of Response: On occasion; third party disclosure.

Description: The Telecommunications Act of 1996 (1996 Act) directed the Commission to initiate a rulemaking reform to our system of universal service so that universal service is preserved and advanced as markets move toward competition. On May 8, 1997, the Commission adopted rules providing, among other things, that rural health care providers receive access to advanced telecommunications services at rates that are reasonably comparable to those available in urban areas. All rural health care providers planning to order eligible telecommunications services at discounted rates under the universal service program must file the following forms: FCC Form 465, Description of Service Requested & Certification. Rural health care providers ordering discounted telecommunications services under the universal service program must submit FCC Form 465, Description of Service Requested and Certification to the Administrator. Rural health care providers must certify their eligibility to receive discounted telecommunications services. 47 CFR 54.615(c). The Administrator will then post a description of the services sought on a website for all potential competing service providers to see and respond to as if they were requests for proposals (RFPs). (No. of respondents: 1200; hours per response: 2.5 hours; total annual burden: 3000 hours). b. FCC Form 466, Funding Request and Certification. Rural health care providers that have ordered telecommunications under the universal service discount program must file FCC Form 466, Funding Request and Certification Form, with the Administrator. The data reported will be used to ensure that health care providers have selected the most cost-effective method of providing the requested services. 47 CFR 54.603(b)(4). (No. of respondents: 1350; hours per response: 2 hours; total annual burden: 2700 hours). c. FCC Form 466-A, Internet Toll Charge Discount Request. If a rural health care provider is only seeking support for toll charges to access the Internet, it must submit Form 466-A. (No. of respondents: 5; hours per response: 1 hour; total annual burden: 5 hours). d. FCC Form 467, Connection Certification. Rural health care providers participating in the universal service support mechanism must submit Form 467 to inform the Administrator that they have begun to receive, or have stopped receiving, the telecommunications services for which universal service support has been allocated. The data reported will be used to ensure that universal service support is distributed to telecommunications carriers serving eligible health care providers pursuant to 47 CFR 54.611. (No. of respondents: 1350; hours per response: 1.5 hours; total annual burden: 2025 hours). e. FCC Form 468, Telecommunications Carrier Form. Rural health care providers ordering telecommunications services under the universal service support mechanism must submit FCC Form 468, Telecommunications Carrier Form to the Administrator. The data reported will be used to ensure that the telecommunications carrier receives the appropriate amount of credit for providing telecommunications services to eligible health care providers. 47 CFR 54.605-611. (No. of respondents: 1350; hours per response: 1.5 hours; total annual burden: 2025 hours). Obligation to respond: Required to obtain or retain benefits.

OMB Control No.: 3060-0292.

Expiration Date: 11/30/2003.

Title: Part 69—Access Charges.

Form No.: N/A.

Respondents: Business or other for-profit.

Estimated Annual Burden: 5832 respondents; 4.74 hours per response (avg.).; 27,702 total annual burden hours.

Estimated Annual Reporting and Recordkeeping Cost Burden: $0.

Frequency of Response: On occasion; monthly; annually; biennially.

Description: Part 69 of the Commission's rules and regulations establishes the rules for access charges for interstate or foreign access provided by telephone companies on or after January 1, 1984. Part 69 essentially consists of rules or the procedures for the computation of access charges. (a) Section 69.3 requires the biennial or annual submission of access charge tariffs. (b) Section 69.116(c) and 69.117(c) require local exchange carriers to file information with NECA semi-annually pertaining to the number of lines in their study areas and the interexchange carriers to which such lines are presubscribed. This information will be used by NECA to assess revenue requirements needed to fund the Universal Service Fund and Lifeline Assistance programs. (c) Section 69.104(k)(1) requires that a state or local telephone company wishing to implement an end user common line reduction or waiver for its subscribers file information with the Commission demonstrating that its state lifeline assistance plan meets certain criteria. This is a one-time filing requirement which as effective until December 31,1997. (d) Section 69.104(l) requires local telephone carriers to calculate for NECA their projected revenue requirements for the lifeline assistance program until December 31, 1997. (e) Section 69.605 requires carriers who are participating in the pool to report access revenues and cost data so that NECA may compute monthly pool revenues distributions. The information is used to compute charges in tariffs for access service (or origination and termination) and to compute revenue pool distributions. Neither process could be implemented without the information. Obligation to respond: Required to obtain or retain benefits.

OMB Control No.: 3060-0952.

Expiration Date: 10/31/2003.

Title: Proposed Demographic Information and Notifications, Second FNPRM, CC Docket No. 98-147 and Fifth NPRM, CC Docket No. 96-98.

Form No.: N/A.

Respondents: Business or other for-profit.

Estimated Annual Burden: 1400 respondents; 4 hours per response (avg.).; 5600 total annual burden hours.

Estimated Annual Reporting and Recordkeeping Cost Burden: $0.

Frequency of Response: On occasion; Third Party Disclosure.

Description: In CC Docket No. 98-147, the Commission solicited comment on whether requesting carriers should receive demographic and other information from incumbent local exchange carriers (ILECs) to determine whether they wish to collocate at particular remote terminations. In CC Docket No. 98-96, comment was sought on whether ILECs should provide certain notifications to completing carriers. If adopted, the proposed requirements will implement section 706 of the Communications Act of 1934, as amended, to promote deployment of advanced services without significantly degrading the performance of other services. Obligation to respond: Mandatory.

Public reporting burdens for the collections of information are as noted above. Send comments regarding the burden estimates or any other aspect of the collections of information, including suggestions for reducing the burden to Performance Evaluation and Records Management, Washington, DC 20554.

Federal Communications Commission.
Magalie Roman Salas,
Secretary.

[FR Doc. 00-30059 Filed 11-24-00; 8:45 am]

BILLING CODE 6712-01-P